DEPARTMENT OF COMMERCE

Foreign-Trade Zones Board

[B-11-2015]

Foreign-Trade Zone (FTZ) 168—Dallas/Fort Worth, Texas; Notification of Proposed Production Activity; Samsung Electronics America, Inc (Kitting of Mobile Phones and Tablet Computers), Coppell, Texas

The Metroplex International Trade Development Corporation, grantee of FTZ 168, submitted a notification of proposed production activity to the FTZ Board on behalf of Samsung Electronics America, Inc (Samsung), located in Coppell, Texas. The notification conforming to the requirements of the regulations of the FTZ Board (15 CFR 400.22) was received on February 20, 2015.

The Samsung facility is located within Site 9 of FTZ 168. The facility is used for the warehousing, distribution and kitting of mobile phones and tablet computers. Pursuant to 15 CFR 400.14(b), FTZ activity would be limited to the specific foreign-status materials and components and specific finished products described in the submitted notification (as described below) and subsequently authorized by the FTZ Board.

Production under FTZ procedures could exempt Samsung from customs duty payments on the foreign status components used in export production. On its domestic sales, Samsung would be able to choose the duty rates during customs entry procedures that apply to mobile phones and tablet computers (duty-free) for the foreign status inputs noted below. Customs duties also could possibly be deferred or reduced on foreign status production equipment.

The components and materials sourced from abroad include: Rubber tape; holsters (device holders); leather cases, covers and pouches; polyurethane pouches; silicone gel cases; paper labels; barcodes; user's manuals; tablets; Bluetooth® keyboards; keyboard docks; power adaptors; battery chargers; inductors; batteries; cordless headsets; mobile phones; displays; display keysets; internet phones; handsets; stereo Bluetooth® headsets; handset back covers; hands-free handsets; software; memory cards; backplanes; fan trays; LCD windows; handset bases; internal chips; surge absorbers; thermistors; mini-relays; coaxial connectors; chargers; adaptors; diodes; transistors; internal ceramic chips; SMD crystal; integrated circuit memory; flash memory; and, USB data cables (duty rate ranges from duty-free to 17.6%).

Public comment is invited from interested parties. Submissions shall be addressed to the Board's Executive Secretary at the address below. The closing period for their receipt is April 7, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: February 23, 2015.
Andrew McGilvray,
Executive Secretary.

[FR Doc. 2015-04072 Filed 2-25-15; 8:45 am]

BILLING CODE 3510-DS-P